DEPARTMENT OF THE INTERIOR

Minerals Management Service

[Docket No. MMS-2008-OMM-0038]

MMS Information Collection Activities: 1010-0050 Pipelines and Pipeline Rights-of-Way; Comment Request

AGENCY: Minerals Management Service (MMS), Interior.

ACTION: Notice of extension of an information collection (1010-0050).

SUMMARY: To comply with the Paperwork Reduction Act of 1995 (PRA), MMS is inviting comments on a collection of information that we will submit to the Office of Management and Budget (OMB) for review and approval. The information collection request (ICR) concerns the paperwork requirements in the regulations under 30 CFR 250, Subpart J, Pipelines and Pipeline Rights-of-Way.

DATES: Submit written comments by November 14, 2008.

ADDRESSES: You may submit comments by either of the following methods listed below.

• Electronically: go to http://www.regulations.gov. Under the tab More Search Options, click Advanced Docket Search, then select Minerals Management Service from the agency drop-down menu, then click submit. In the Docket ID column, select MMS-2008-OMM-0038 to submit public comments and to view supporting and related materials available for this rulemaking. Information on using Regulations.gov, including instructions for accessing documents, submitting comments, and viewing the docket after the close of the comment period, is available through the site's User Tips link. The MMS will post all comments.

• Mail or hand-carry comments to the Department of the Interior; Minerals Management Service; Attention: Cheryl Blundon; 381 Elden Street, MS-4024; Herndon, Virginia 20170-4817. Please reference Information Collection 1010-0050 in your subject line and mark your message for return receipt. Include your name and return address in your message text.

FOR FURTHER INFORMATION CONTACT: Cheryl Blundon, Regulations and Standards Branch at (703) 787-1607. You may also contact Cheryl Blundon to obtain a copy, at no cost, of the regulation and the forms that require the subject collection of information.

SUPPLEMENTARY INFORMATION: Title: 30 CFR 250, Subpart J, Pipelines and Pipeline Rights-of-Way.

Form(s): MMS-149 and MMS-2030.

OMB Control Number: 1010-0050.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

The Independent Offices Appropriations Act (31 U.S.C. 9701), the Omnibus Appropriations Bill (Pub. L. 104-133, 110 Stat. 1321, April 26, 1996), and Office of Management and Budget (OMB) Circular A-25, authorize Federal agencies to recover the full cost of services that confer special benefits. Under the Department of the Interior's (DOI) implementing policy, the Minerals Management Service (MMS) is required to charge the full cost for services that provide special benefits or privileges to an identifiable non-Federal recipient above and beyond those which accrue to the public at large. Pipeline rights-of-way and assignments are subject to cost recovery, and MMS regulations specify filing fees for applications.

This submittal concerns the regulations at 30 CFR 250, subpart J, on pipelines and pipeline rights-of-way. It also covers the related Notices to Lessees and Operators (NTLs) that MMS issues to clarify and provide additional guidance on some aspects of the regulations.

Included with this submission is form MMS-149, Assignment of Interest in Federal Pipeline Right-of-Way. Section 250.1018 requires applicants to request approval for assignments in whole or of any lineal segment for a right-of-way grant. The assignee is required to submit this form with the relevant information and pay a service fee for this request.

Also with this submission is form MMS-2030, Outer Continental Shelf Right-of-Way Grant Bond. Section 250.1011(a) requires applicants for, and holders of, a right-of-way to provide and maintain a $300,000 bond (in addition to the bond coverage required under 30 CFR part 256), as well as additional security MMS determines is necessary. Respondents submit form MMS-2030 for these right-of-way grant bonds.

We will protect information from respondents considered proprietary under the Freedom of Information Act (5 U.S.C. 552) and its implementing regulations (43 CFR part 2) and under regulations at 30 CFR 250.197, data and information to be made available to the public or for limited inspection. No items of a sensitive nature are collected. Responses are mandatory.

Frequency: On occasion.

Estimated Number and Description of Respondents: Approximately 130 Federal OCS lessees and/or operators and 88 holders of pipeline rights-of-way.

Estimated Reporting and Recordkeeping “Hour” Burden: The currently approved annual reporting burden for this collection is 107,874 hours. The following chart details the individual components and respective hour burden estimates of this ICR. In calculating the burdens, we assumed that respondents perform certain requirements in the normal course of their activities. We consider these to be usual and customary and took that into account in estimating the burden.

Citation 30 CFR 250 subpart J and related NTL(s) | Reporting & recordkeeping requirements | Hour burden— Non-hour cost burden
1000-1008 | Make available to MMS design, construction, operation, maintenance, testing, and repair records on lease-term P/Ls ¹ | 2
1000(b); 1007(a) | Submit application to install new lease-term pipeline (P/L), including exceptions/departures, consents and notices, required reports, and attachments | 140 $3,100 fee
1000(b), (d); 1007(a); 1009(a); 1011(a); 1015; 1016 | Apply for P/L right-of-way (ROW) grant and installation of new ROW P/L, including exceptions/departures, consents and notices, required reports, and attachments | 140 $2,350 fee
1000(b); 1007(b); 1015; 1017 | Submit application to modify lease-term or ROW P/L or ROW grant, including exceptions/departures; notify operators of deviation | 30 $1,800-L/T fee $3,650-ROW fee
1000(b); 1010(h); 1019 | Apply to relinquish P/L ROW grant, including exceptions/departures | 8
1000(c)(2) | Identify in writing P/L operator on ROW if different from ROW grant holder | .25
1000(c)(3) | Mark specific point on P/L where operating responsibility transfers to transporting operator or depict transfer point on a schematic located on the facility. (Part of application or construction process involving no additional burdens.) | 0
1000(c)(4) | Petition to MMS for exceptions to general operations transfer point description | 5
1000(c)(8) | Request MMS recognize valves landward of last production facility but still located on OCS as point where MMS regulatory authority begins | 1
1000(c)(12) | Petition to MMS to continue to operate under DOT regulations upstream of last valve on last production facility | 40
1000(c)(13) | Transporting P/L operator petition to DOT and MMS to continue to operate under MMS regulations | 40
1004(c) | Place sign on safety equipment identified as ineffective and removed from service | See footnote ²
1005(a) | Inspect P/L routes for indication of leakage ¹, record results, maintain records 2 years ² | 24
1007(a)(4) | Submit required documentation under API RP 17J | 150
1008(a), (c), (d), (e), (f), (h) | Notify MMS; as requested submit procedures before performing work; submit post-report on P/L or P/L safety equipment repair, removal from service, analysis results, or potential measurements | 16
1008(b) | Submit P/L construction report | 16
1008(e) | The lessee or right-of-way holder must notify the Regional Supervisor before the repair of any pipeline | $340 fee
1008(g) | Submit plan of corrective action and report of remedial action | 16
1010(c) | Notify MMS of any archaeological resource discovery | 4
1010(d) | Inform MMS of P/L ROW holder's name and address changes. Not considered information collection under 5 CFR 1320.3(h)(1) | 0
1010(g) | Make available to MMS design, construction, operation, maintenance, testing, and repair records on P/L ROW area and improvements ² | 10
1011(a) | Submit surety bond on form MMS-2030 | .50
1015 | Apply to convert lease-term P/L to ROW grant P/L; notify operators of deviation, including various exceptions/departures | 25 $200 fee
1016 | Request opportunity to eliminate conflict when application has been rejected; amend and submit application if needed | 2
1018 | Apply for and file application and required information for assignment or transfer for approval (ROW) (Form MMS-149) | .5 $170 fee
1000-1019 | General departure and alternative compliance requests not specifically covered elsewhere in subpart J regulations (e.g., protective device re burial) | 2
¹ Retaining these records is usual and customary business practice; required burden is minimal to make available to MMS.
² These activities are usual and customary practices for prudent operators.

Estimated Reporting and Recordkeeping “Non-Hour Cost” Burden: The currently approved annual non-hour cost burden for collection 1010-0050 is $2,369,400. All of the non-hour cost burdens are for non-refundable filing fees. In:

• § 250.1000(b) applicants must pay a fee of $3,100 for a new L/T pipeline application; $1,800 for a modification to a L/T pipeline application, and $3,650 for a modification to a ROW pipeline application.

• § 250.1008(e) applications must pay a fee of $340 for a pipeline repair notification.

• § 250.1015(a) applicants must pay a $2,350 fee when applying for a pipeline right-of-way grant to install a new pipeline or pay $200 to convert an existing lease-term pipeline into a right-of-way pipeline.

• § 250.1018(b) an applicant must pay a fee of $170 when applying for approval of an assignment of a right-of-way grant.

There are no other non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedure: The MMS's practice is to make comments, including names and addresses of respondents, available for public review. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz, (202) 208-7744.

Dated: September 5, 2008.
E.P. Danenberger,
Chief, Office of Offshore Regulatory Programs.

[FR Doc. E8-21436 Filed 9-12-08; 8:45 am]

BILLING CODE 4310-MR-P